DEPARTMENT OF ENERGY

Federal Energy Regulatory Commission

[Docket No. CP15-505-000]

Natural Gas Pipeline Company of America, LLC; Notice of Schedule for Environmental Review of the Chicago Market Expansion Project

On June 1, 2015, Natural Gas Pipeline Company of America, LLC (Natural) filed an application in Docket No. CP15-505-000 requesting a Certificate of Public Convenience and Necessity pursuant to Section 7(c) of the Natural Gas Act to construct and operate certain natural gas pipeline facilities. The proposed project is known as the Chicago Market Expansion Project (Project), and would provide about 238,000 dekatherms of incremental northbound firm transportation capacity to the city of Chicago, Illinois and neighboring areas.

On June 12, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review
Issuance of EA | January 11, 2016.
90-day Federal Authorization Decision Deadline | April 11, 2016.

If a schedule change becomes necessary, additional notice will be provided so that the relevant agencies are kept informed of the Project's progress.

Project Description

The proposed Project would construct a new 30,000 horsepower natural gas-fired compressor station with suction and discharge piping and ancillary equipment in Livingston County, Illinois.

Background

On July 9, 2015, the Commission issued a Notice of Intent to Prepare an Environmental Assessment for the Proposed Chicago Market Expansion Project and Request for Comments on Environmental Issues (NOI). The NOI was sent to affected landowners; federal, state, and local government agencies; elected officials; environmental and public interest groups; Native American tribes; other interested parties; and local libraries and newspapers. In response to the NOI, the Commission received a consultation letter from United States Department of Agriculture regarding impacts of farmland conversion.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP15-505), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: December 2, 2015.
Nathaniel J. Davis, Sr.,
Deputy Secretary.

[FR Doc. 2015-30847 Filed 12-7-15; 8:45 am]

BILLING CODE 6717-01-P